DEPARTMENT OF STATE

[Public Notice 6428]

APEC 2011 Leaders' Meeting

Summary: United States cities and major resort/hotel destinations are invited to present proposals to hold the concluding series of meetings of the Asia Pacific Economic Cooperation (APEC) forum scheduled for November 12-20, 2011. Over the course of nine days, the United States Government will organize various official and informal events, bilateral meetings, and media events that APEC member economies will attend. In total, up to 20,000 participants, including support staff, security, media, and businesspersons are expected to attend. Global media attention will focus on the APEC Leaders' Meetings and the city selected to host the event. The President of the United States, 18 other Heads of Government and representatives from Hong Kong and Taiwan are expected to attend. Each APEC delegation will likely come with its own advisors, security, and media. The APEC CEO Summit will also attract senior business executives from around the Asia-Pacific region. With this many high-profile visitors, security will be a major consideration for the selection of the city and conference venues. The following meetings are expected to be held from November 12-20, 2011: (1) Concluding Senior Officials Meeting (CSOM)—2 days, approximately 200 delegates; (2) APEC Business Advisory Council Meeting (ABAC)—4 days, approximately 200 delegates; (3) APEC Ministerial Meeting (AMM)—2 days, approximately 500 delegates; (4) APEC CEO Summit—2 days, approximately 10,000 participants; (5) ABAC Dialogue with Leaders—½ day, restricted attendance; (6) APEC Economic Leaders Meeting (AELM)—2 days, restricted attendance, 10,000 participants. The minimum requirements are as follows: An international airport with good connections to and from APEC economies (further information on APEC can be found at www.APEC.org); 20,000 hotel rooms of international standard including 80 suites for Heads of Government and cabinet-level Ministers; Conference facilities for multiple meetings; Political, business, and civic support; Local security capable of supporting delegates and VIPs. Preparation of Proposals. Deadline is December 15, 2008. The city selection will be made by the new Administration. Proposals must be in one (1) three-inch binder with no loose inserts. A professional video presentation of the city or resort/hotel must be included on a DVD. Three copies of the proposals must be mailed to: U.S. Department of State, Attn: APEC 2011 Leaders' Meeting, 2201 C. Street, Washington, DC 20520. Proposals should be postmarked by December 15, 2008. Questions about the proposal can be directed to APEC2011@state.gov. Questions will be responded to in a timely manner. All information in the proposal, including prices, must be valid for 60 days after the due date. Binders must have the following sections: (1) One-page executive summary of what the city offers. (2) General city description including the following: (a) Letter of support from the mayor or city's senior elected official; (b) letter of support from the state governor; (c) letter of support from local chamber of commerce; (d) a past performance statement which indicates the city's experience in putting on large meetings and events of this scale; (e) history of the city; (f) manufacturing and trade with the Asian-Pacific region; (g) description of the city's population groups from the APEC economies; (h) cultural attractions and shopping; and (i) availability of special places of interest that could be used for formal receptions, official dinners, or other events (e.g. museums, parks, monuments, theatres, etc.). (3) Airport: (a) Airline connections with APEC economies; (b) immigration and customs facilities; facilitated and expedited immigration for delegates, if any; (c) ability to receive private airplanes of heads of government and VIPs; (d) ground transportation to conference hotels; (e) arrival welcome for delegates, if any; and (f) traveler assistance services. (4) Hotel rooms and prices: (a) Hotels within one mile of the conference center including facilities, such as wireless internet (WIFI), and restaurants; (b) Hotels farther than one mile from the conference center including facilities, such as WIFI and restaurants; (c) hotel rooms suitable for VIPs; (d) up-to-date safety/security systems; and (e) ability to comply with security checks on employees. (5) Conference facilities: (a) Catering, audio-visual, perimeter security, on-site maintenance, management, medical, and WIFI; (b) dedicated entrance for APEC delegates, if any; (c) meeting rooms; (d) transportation between hotels and conference facilities; (e) spreadsheet with costs of conference facilities for dates indicated; (f) Statement that the facilities are available for conference dates plus four weeks before those dates and one week after; and (g) Lunch facilities within a 15-minute walk of the conference facilities. (6) Letters of support from civic and business groups. (7) Letter of support from conference bureau. (8) Description of local transportation. (9) Security should address the AELM Leaders' conference facilities and hotels only. Please address the following questions: How will the city provide security for the delegates and VIPs including the U.S. President? Only the U.S. President and other Heads of Government will have United States Secret Service (USSS) protective details. Each Head of Government will receive protection and a limousine. The Secretary of State has 24/7 Diplomatic Security Service (DS) protection. Heads of delegations that are not Heads of Government would NOT receive USSS protection but, based on threat, might receive DS protection. Local Police Departments (PD) normally provide route, motorcade, and intelligence support to the USSS. Local PDs historically have the lead responsibility for providing crowd control, demonstration control and riot response. If required, will the city block off streets around the conference venue and hotels for Heads of Government? The conference facility would have tight perimeter and access controls. Security arrangements for hotels are based on threat information relating to the Heads of Government and will be determined on a case-by-case basis by the USSS and Local PD. Not every hotel would necessarily have total perimeter controls. Conversely, a central hotel might meet criteria for closed streets and public access. How will the city fund the extra security required for this conference? Cities that bid on such events must take into account and budget for the extensive costs of Security and Public Safety, as that responsibility lies solely with the host city. The USSS and DS do not reimburse local police for costs of supporting visiting foreign dignitaries. Some cities in the past have been able to obtain funding to offset security costs through Congress when requests for funding support have been initiated by their congressional representatives. This event would likely receive a Department of Homeland Security, Special Event Activity Report (SEAR) Level One. It could possibly receive designation as a National Security Special Event (NSSE) but that would not likely be determined until approximately one year or less prior to the event. The SEAR and NSSE designations are made based on certain criteria by either the DHS Special Event Working Group or the NSSE Working Group (Interagency Security groups that use methodology to determine an event's rating.) Neither designation provides funding to local public safety agencies, but the ultimate SEAR level and, if applicable, NSSE designation, does outline the level of support that Federal agencies can provide. What public safety infrastructure is available? Address the following: (1) Police: (a) Special operations capabilities; (b) VIP protection; (c) riot and crowd control response to incidents; (d) explosive detection and disposal; (e) traffic controls; (f) Intelligence Division; (g) mutual aid agreements/memorandum of understanding with surrounding jurisdictions/state police; (h) communication center and procedures; and (i) current emergency plan. (2) Fire/emergency medical service: (a) Chemical Biological Radiological and Nuclear detection/procedures; (b) first responders; (c) equipment/training and trained staff on hand. (3) Emergency Management: (a) Mass casualty; (b) terrorist attack; and (c) natural disaster. (4) Emergency Facilities: (a) Hospital/Medical Centers; (b) emergency backup communications; (c) emergency supplies; and (d) evacuation plans.

Dated: November 7, 2008.
Edward Malcik,
Director, Office of International Conferences, Department of State.

[FR Doc. E8-27490 Filed 11-18-08; 8:45 am]

BILLING CODE 4710-19-P